LEGAL SERVICES CORPORATION

Sunshine Act Meeting; Notice

TIME AND DATE: The Legal Services Corporation Board of Directors' Search Committee for LSC President (“Search Committee” or “Committee”) will meet on December 13, 2010. The meeting will begin at 10 a.m. (Eastern Time) and continue until conclusion of the Committee's agenda.

LOCATION: Sidley and Austin, LLP, 1 South Dearborn Street, Chicago, Illinois 60603.

STATUS OF MEETING: Closed. The meeting of the Search Committee will be closed to the public pursuant to a vote of the Board of Directors authorizing the Committee to interview select candidates for the position of LSC President.[No new paragraph here] Such closure is authorized by the relevant provisions of the Government in the Sunshine Act [5 U.S.C. 552b(c)(6)] and LSC's implementing regulation 45 CFR 1622.5(e).¹

¹ 45 CFR 1622.5(e) protects information the disclosure of which would constitute a clearly unwarranted invasion of personal privacy.

The transcript of any portions of the closed session falling within the relevant provision of the Government in Sunshine Act, 5 U.S.C. 552b(c)(6), and LSC's implementing regulation, 45 CFR 1622.5(e), will not be available for public inspection. The transcript of any portions not falling within either of these provisions will be available for public inspection.

MATTERS TO BE CONSIDERED:

Closed Session

1. Approval of Agenda.

2. Review of applications regarding candidates for the position of LSC President.

3. Consider and act on other business.

4. Consider and act on adjournment of meeting.

CONTACT PERSON FOR INFORMATION: Kathleen Connors, Executive Assistant to the President, at (202) 295-1500. Questions may be sent by electronic mail to FR_NOTICE_QUESTIONS@lsc.gov.

SPECIAL NEEDS: Upon request, meeting notices will be made available in alternate formats to accommodate visual and hearing impairments. Individuals who have a disability and need an accommodation to attend the meeting may notify Kathleen Connors at (202) 295-1500 or FR_NOTICE_QUESTIONS@lsc.gov.

Dated: December 6, 2010.
Patricia D. Batie,
Corporate Secretary.

[FR Doc. 2010-31025 Filed 12-6-10; 4:15 pm]

BILLING CODE 7050-01-P